DEPARTMENT OF HOMELAND SECURITY

Federal Emergency Management Agency

[Docket ID FEMA-2016-0002]

Changes in Flood Hazard Determinations

AGENCY: Federal Emergency Management Agency, DHS.

ACTION: Final notice.

SUMMARY: New or modified Base(1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: August 26, 2016.
Roy E. Wright,
Deputy Associate Administrator for Insurance and Mitigation, Department of Homeland Security, Federal Emergency Management Agency.

State and county | Location and case No. | Chief executive, officer of community | Community map repository | Effective date of modification | Community No.
Alabama:
Shelby (FEMA Docket No.: B-1611) | City of Hoover (15-04-7711P) | The Honorable Gary Ivey, Mayor, City of Hoover, 100 Municipal Lane, Hoover, AL 35216 | Building Inspections Department, 2020 Valleydale Road, Hoover, AL 35244 | Jun. 13, 2016 | 010123
Shelby (FEMA Docket No.: B-1611) | Unincorporated areas of Shelby County, (15-04-7711P) | The Honorable Rick Shepherd, Chairman, Shelby County Commission, 200 West College Street, Columbiana, AL 35051 | Shelby County Engineer's Office, 506 Highway 70, Columbiana, AL 35051 | Jun. 13, 2016 | 010191
Arizona: Maricopa (FEMA Docket No.: B-1611) | City of Scottsdale, (15-09-1857P) | The Honorable W.J. “Jim” Lane, Mayor, City of Scottsdale, 3939 North Drinkwater Boulevard, Scottsdale, AZ 85251 | Stormwater and Floodplain Management Department, 7447 East Indian School Road, Suite 125, Scottsdale, AZ 85251 | Jun. 10, 2016 | 045012
Arkansas:
Van Buren (FEMA Docket No.: B-1555) | City of Clinton, (15-06-3659P) | The Honorable Richard McCormac, Mayor, City of Clinton, P.O. Box 970, Clinton, AR 72031 | City Hall, 342 Main Street, Clinton, AR 72031 | Mar. 4, 2016 | 050211
Van Buren (FEMA Docket No.: B-1555) | Unincorporated areas of Van Buren County, (15-06-3659P) | The Honorable Roger Hooper, Van Buren County Judge, P.O. Box 60, Clinton, AR 72031 | Van Buren County Clerk's Office, 1414 Highway 65 South, Clinton, AR 72031 | Mar. 4, 2016 | 050566
White (FEMA Docket No.: B-1614) | City of Beebe, (15-06-1373P) | The Honorable Mike Robertson, Mayor, City of Beebe, 321 North Elm Street, Beebe, AR 72012 | City Hall, 321 North Elm Street, Beebe, AR 72012 | Jun. 22, 2016 | 050223
White (FEMA Docket No.: B-1614) | Unincorporated areas of White County, (15-06-1373P) | The Honorable Michael Lincoln, White County Judge, 300 North Spruce Street, Searcy, AR 72143 | White County Office of Emergency Management, 417 North Spruce Street, Searcy, AR 72143 | Jun. 22, 2016 | 050467
California: Santa Barbara (FEMA Docket No.: B-1611) | City of Santa Barbara, (15-09-1420P) | The Honorable Helene Schneider, Mayor, City of Santa Barbara, P.O. Box 1990, Santa Barbara, CA 93102 | Public Works Department, 630 Garden Street, Santa Barbara, CA 93101 | Jun. 13, 2016 | 060335
Colorado:
Douglas (FEMA Docket No.: B-1614) | Town of Castle Rock, (16-08-0265P) | The Honorable Paul Donahue, Mayor, Town of Castle Rock, 100 North Wilcox Street, Castle Rock, CO 80104 | Utilities Department, 175 Kellogg Court, Castle Rock, CO 80109 | Jun. 24, 2016 | 080050
Jefferson (FEMA Docket No.: B-1618) | Unincorporated areas of Jefferson County, (15-08-0540P) | The Honorable Casey Tighe, Chairman, Jefferson County Board of Commissioners, 100 Jefferson County Parkway, Golden, CO 80419 | Department of Planning and Zoning, 100 Jefferson County Parkway, Golden, CO 80419 | Jul. 22, 2016 | 080087
Florida:
Alachua (FEMA Docket No.: B-1611) | City of Hawthorne, (15-04-8602P) | The Honorable Matthew Surrency, Mayor, City of Hawthorne, P.O. Box 2413, Hawthorne, FL 32640 | Building Department, 6700 Southeast 221st Street, Hawthorne, FL 32640 | Jun. 16, 2016 | 120682
Alachua (FEMA Docket No.: B-1611) | Unincorporated areas of Alachua County, (15-04-A130P) | The Honorable Robert “Hutch” Hutchinson, Chairman, Alachua County Board of Commissioners, 12 Southeast 1st Street, Gainesville, FL 32601 | Alachua County Public Works Department, 5620 Northwest 120th Lane, Gainesville, FL 32601 | Jun. 21, 2016 | 120001
Bay (FEMA Docket No.: B-1611) | City of Panama City Beach, (15-04-9706P) | The Honorable Gayle Oberst, Mayor, City of Panama City Beach, 110 South Arnold Road, Panama City Beach, FL 32413 | Engineering Department, 110 South Arnold Road, Panama City Beach, FL 32413 | Jun. 21, 2016 | 120013
Bay (FEMA Docket No.: B-1614) | Unincorporated areas of Bay County, (15-04-8357P) | The Honorable Mike Nelson, Chairman, Bay County Board of Commissioners, 840 West 11th Street, Panama City, FL 32401 | Bay County Planning and Zoning Division, 840 West 11th Street, Panama City, FL 32401 | Jun. 27, 2016 | 120004
Bay (FEMA Docket No.: B-1611) | Unincorporated areas of Bay County, (15-04-9706P) | The Honorable Mike Nelson, Chairman, Bay County Board of Commissioners, 840 West 11th Street, Panama City, FL 32401 | Bay County Planning and Zoning Division, 840 West 11th Street, Panama City, FL 32401 | Jun. 21, 2016 | 120004
Collier (FEMA Docket No.: B-1611) | Unincorporated areas of Collier County, (16-04-1863P) | The Honorable Donna Fiala, Chair, Collier County Board of Commissioners, 3299 Tamiami Trail East, Suite 303, Naples, FL 34112 | Collier County Floodplain Management Section, 2800 North Horseshoe Drive, Naples, FL 34104 | Jun. 15, 2016 | 120067
Monroe (FEMA Docket No.: B-1611) | City of Marathon, (16-04-1559P) | The Honorable Mark Senmartin, Mayor, City of Marathon, 9805 Overseas Highway, Marathon, FL 33050 | Planning Department, 9805 Overseas Highway, Marathon, FL 33050 | Jun. 16, 2016 | 120681
Monroe (FEMA Docket No.: B-1614) | Unincorporated areas of Monroe County, (16-04-0898P) | The Honorable Heather Carruthers, Mayor, Monroe County Board of Commissioners, 500 Whitehead Street, Suite 102, Key West, FL 33040 | Monroe County Building Department, 2798 Overseas Highway, Suite 300, Marathon, FL 33050 | Jun. 30, 2016 | 125129
Monroe (FEMA Docket No.: B-1611) | Unincorporated areas of Monroe County, (16-04-1380P) | The Honorable Heather Carruthers, Mayor, Monroe County Board of Commissioners, 500 Whitehead Street, Suite 102, Key West, FL 33040 | Monroe County Building Department, 2798 Overseas Highway, Suite 300, Marathon, FL 33050 | Jun. 17, 2016 | 125129
Monroe (FEMA Docket No.: B-1611) | Unincorporated areas of Monroe County, (16-04-1801P) | The Honorable Heather Carruthers, Mayor, Monroe County Board of Commissioners, 500 Whitehead Street, Suite 102, Key West, FL 33040 | Monroe County Building Department, 2798 Overseas Highway, Suite 300, Marathon, FL 33050 | Jun. 17, 2016 | 125129
Sarasota (FEMA Docket No.: B-1614) | Unincorporated areas of Sarasota County, (16-04-1646P) | The Honorable Alan Maio, Chairman, Sarasota County Board of Commissioners, 1660 Ringling Boulevard, Sarasota, FL 34236 | Sarasota County Development Services Department, 1001 Sarasota Center Boulevard, Sarasota, FL 34240 | Jun. 23, 2016 | 125144
Seminole (FEMA Docket No.: B-1614) | City of Altamonte Springs, (16-04-0514P) | The Honorable Patricia Bates, Mayor, City of Altamonte Springs, 225 Newburyport Avenue, Altamonte Springs, FL 32701 | Public Works Department, 950 Calabria Drive, Altamonte Springs, FL 32701 | Jun. 29, 2016 | 120290
St. Johns (FEMA Docket No.: B-1611) | Unincorporated areas of St. Johns County, (15-04-9500P) | The Honorable Jeb Smith, Chairman, St. Johns County Board of Commissioners, 500 San Sebastian View, St. Augustine, FL 32084 | St. Johns County, Building Services Division, 4040 Lewis Speedway, St. Augustine, FL 32084 | Jun. 13, 2016 | 125147
St. Johns (FEMA Docket No.: B-1614) | Unincorporated areas of St. Johns County, (16-04-1087P) | The Honorable Jeb Smith, Chairman, St. Johns County Board of Commissioners, 500 San Sebastian View, St. Augustine, FL 32084 | St. Johns County Building Services Division, 4040 Lewis Speedway, St. Augustine, FL 32084 | Jun. 28, 2016 | 125147
Maine: Hancock (FEMA Docket No.: B-1614) | Town of Gouldsboro, (15-01-2374P) | The Honorable Dana Rice, Chair, Town of Gouldsboro Board of Selectmen, P.O. Box 68, Prospect Harbor, ME 04669 | Town Hall, 59 Main Street, Prospect Harbor, ME 04669 | Jun. 24. 2016 | 230283
New Mexico: Bernalillo (FEMA Docket No.: B-1618) | Unincorporated areas of Bernalillo County, (15-06-4028P) | The Honorable Art De La Cruz, Chairman, Bernalillo County Board of Commissioners, 1 Civic Plaza Northwest, Albuquerque, NM 87102 | Bernalillo County Public Works Department, 2400 Broadway Southeast, Albuquerque, NM 87102 | Jun 7, 2016 | 350001
North Carolina:
Buncombe (FEMA Docket No.: B-1614) | Unincorporated areas of Buncombe County, (15-04-4244P) | The Honorable David Gantt, Chairman, Buncombe County Board of Commissioners, 200 College Street,, Suite 316, Ashville, NC 28801 | Buncombe County Planning Department, 46 Valley Street, Ashville, NC 28801 | Jun. 30, 2016 | 370031
Forsyth (FEMA Docket No.: B-1611) | City of Winston-Salem, (15-04-9863P) | The Honorable Allen Joines, Mayor, City of Winston-Salem, 101 North Main Street, Suite 150, Winston Salem, NC 27101 | City Hall, 101 North Main Street, Winston-Salem, NC 27101 | Jun. 16, 2016 | 375360
Ohio: Montgomery (FEMA Docket No.: B-1611) | City of Centerville, (15-05-1744P) | The Honorable Brooks Compton, Mayor, City of Centerville, 350 Roselake Drive, Centerville, OH 45458 | Public Works Department, 7970 South Suburban Road, Centerville, OH 45458 | Jun. 15, 2016 | 390408
Pennsylvania:
Elk (FEMA Docket No.: B-1618) | Borough of Johnsonburg, (14-03-2810P) | The Honorable Theresa Cherry, Mayor, Borough of Johnsonburg, 100 Main Street, Johnsonburg, PA 15845 | Borough Hall, 100 Main Street, Johnsonburg, PA 15845 | Jun. 27, 2016 | 420443
Elk (FEMA Docket No.: B-1618) | Township of Ridgway, (14-03-2810P) | The Honorable Richard Glover, Chairman, Township of Ridgway Board of Supervisors, 1537-A Montmorenci Road, Ridgway, PA 15853 | Township Municipal Building, 1537-A Montmorenci Road, Ridgway, PA 15853 | Jun. 27, 2016 | 420445
Lebanon (FEMA Docket No.: B-1605) | Township of Heidelberg, (15-03-0736P) | The Honorable Paul Fetter, Chairman, Township of Heidelberg Board of Supervisors, 111 Mill Road, Schaefferstown, PA 17088 | Township Hall, 111 Mill Road, Schaefferstown, PA 17088 | Jun. 16, 2016 | 420969
Lebanon (FEMA Docket No.: B-1605) | Township of Millcreek, (15-03-0736P) | The Honorable Donald R. Leibig, Chairman, Township of Millcreek Board of Supervisors, 81 East Alumni Avenue, Newmanstown, PA 17073 | Planning and Zoning Department, 400 South 8th Street, Newmanstown, PA 17042 | Jun. 16, 2016 | 420574
South Carolina: Berkeley (FEMA Docket No.: B-1614) | Unincorporated areas of Berkeley County, (16-04-1799P) | The Honorable William W. Peagler, III, Chairman, Berkeley County Council, 1003 Highway 52, Moncks Corner, SC 29461 | Berkeley County Planning and Zoning Department, 1003 Highway 52, Moncks Corner, SC 29461 | Jun. 30, 2016 | 450029
South Dakota:
Lawrence (FEMA Docket No.: B-1614) | City of Hill City, (15-08-0904P) | The Honorable Dave Gray, Mayor, City of Hill City, P.O. Box 395, Hill City, SD 57745 | Planning Department, 243 Deerfield Road, Hill City, SD 57745 | Jun. 30, 2016 | 460064
Lawrence (FEMA Docket No.: B-1614) | City of Spearfish, (15-08-0993P) | The Honorable Dana Boke, Mayor, City of Spearfish, 625 5th Street, Spearfish, SD 57783 | Municipal Services Centre, 625 5th Street, Spearfish, SD 57783 | Jun. 24, 2016 | 460046
Pennington (FEMA Docket No.: B-1614) | Unincorporated areas of Pennington County, (15-08-0904P) | The Honorable Lyndell H. Petersen, Chairman, Pennington County Board of Commissioners, 130 Kansas City Street, Suite 100, Rapid City, SD 57701 | Pennington County Planning Department, 832 St. Joseph Street, Rapid City, SD 57701 | Jun. 30, 2016 | 460116
Texas:
Bexar (FEMA Docket No.: B-1611) | City of San Antonio, (15-06-0951P) | The Honorable Ivy R. Taylor, Mayor, City of San Antonio, P.O. Box 839966, San Antonio, TX 78283 | Transportation and Capital Improvements Department, Storm Water Division, 1901 South Alamo Street, 2nd Floor, San Antonio, TX 78204 | Jun. 16, 2016 | 480045
Bexar (FEMA Docket No.: B-1614) | City of San Antonio, (15-06-4534P) | The Honorable Ivy R. Taylor, Mayor, City of San Antonio, P.O. Box 839966, San Antonio, TX 78283 | Transportation and Capital Improvements Department, Stormwater Division, 1901 South Alamo Street, 2nd Floor, San Antonio, TX 78204 | Jun. 22, 2016 | 480045
Bexar (FEMA Docket No.: B-1614) | Unincorporated areas of Bexar County, (15-06-2058P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | Jun. 27, 2016 | 480035
Dallas (FEMA Docket No.: B-1614) | City of Mesquite, (15-06-2748P) | The Honorable Stan Pickett, Mayor, City of Mesquite, 1515 North Galloway Avenue, Mesquite, TX 75149 | Engineering Division, 1515 North Galloway Avenue, Mesquite, TX 75149 | Jun. 17, 2016 | 485490
Denton (FEMA Docket No.: B-1611) | City of Carrollton, (15-06-3828P) | The Honorable Matthew Marchant, Mayor, City of Carrollton, P.O. Box 110535, Carrollton, TX 75011 | Building Inspections Department, 1945 East Jackson Road, Carrollton, TX 75006 | Jun. 13, 2016 | 480167
Denton (FEMA Docket No.: B-1611) | City of Plano, (15-06-3828P) | The Honorable Harry LaRosiliere, Mayor, City of Plano, P.O. Box 860358, Plano, TX 75086 | City Hall, 1520 K Avenue, Plano, TX 75074 | Jun. 13, 2016 | 480140
Denton (FEMA Docket No.: B-1611) | City of The Colony, (15-06-3828P) | The Honorable Joe McCourry, Mayor, City of The Colony, 6800 Main Street, The Colony, TX 75056 | Engineering Department, 6800 Main Street, The Colony, TX 75056 | Jun. 13, 2016 | 481581
Harris (FEMA Docket No.: B-1614) | Unincorporated areas of Harris County, (15-06-0921P) | The Honorable Ed Emmett, Harris County Judge, 1001 Preston Street, Suite 911, Houston, TX 77002 | Harris County Permit Office, 10555 Northwest Freeway, Houston, TX 77002 | Jun. 29, 2016 | 480287
Montgomery (FEMA Docket No.: B-1611) | City of Conroe, (15-06-1222P) | The Honorable Webb K. Melder, Mayor, City of Conroe, P.O. Box 3066, Conroe, TX 77305 | Department of Public Works, Engineering Division, 300 West Davis Street, Conroe, TX 77301 | Jun. 13, 2016 | 480484
Wichita (FEMA Docket No.: B-1611) | City of Wichita Falls, (15-06-2136P) | The Honorable Glenn Barham, Mayor, City of Wichita Falls, P.O. Box 1431, Wichita Falls, TX 76307 | City Hall, 1300 7th Street, Room 105, Wichita Falls, TX 76301 | Jun. 14, 2016 | 480662
Utah:
Davis (FEMA Docket No.: B-1611) | City of Farmington, (15-08-1200P) | The Honorable H. James Talbot, Mayor, City of Farmington, P.O. Box 160, Farmington, UT 84025 | City Hall, 160 South Main Street, Farmington, UT 84025 | Jun. 24, 2016 | 490044
Davis (FEMA Docket No.: B-1611) | Unincorporated areas of Davis County, (15-08-1200P) | The Honorable John Petroff, Jr., Chairman, Davis County Board of Commissioners, P.O. Box 618, Farmington, UT 84025 | Davis County Planning Department, 61 South Main Street, Room 304, Farmington, UT 84025 | Jun. 24, 2016 | 490038
Washington (FEMA Docket No.: B-1614) | City of St. George, (16-08-0186P) | The Honorable Jon Pike, Mayor, City of St. George, 175 East 200 North, St. George, UT 84770 | City Hall, 175 East 200 North, St. George, UT 84770 | Jun. 27, 2016 | 490177
Washington (FEMA Docket No.: B-1611) | Unincorporated areas of Washington County, (15-08-1225P) | The Honorable Alan D. Gardner, Chairman, Washington County Board of Commissioners, 197 East Tabernacle Street, St. George, UT 84770 | Washington County Planning and Zoning Department, 197 East Tabernacle Street, St. George, UT 84770 | Jun. 15, 2016 | 490224
Virginia:
Chesterfield (FEMA Docket No.: B-1614) | Unincorporated areas of Chesterfield County, (15-03-1125P) | The Honorable Steve A. Elswick, Chairman, Chesterfield County Board of Supervisors, P.O. Box 40, Chesterfield, VA 23832 | Chesterfield County Department of Environmental Engineering, 9800 Government Center Parkway, Chesterfield, VA 23832 | Jun. 22, 2016 | 510035
Prince William (FEMA Docket No.: B-1618) | Unincorporated areas of Prince William County, (16-03-0467P) | The Honorable Corey A. Stewart, Chairman At-Large, Prince William County, Board of Supervisors, 1 County Complex Court, Prince William, VA 22192 | Prince William County Department of Public Works, 5 County Complex Court, Prince William, VA 22192 | Jun. 30, 2016 | 510119

[FR Doc. 2016-22894 Filed 9-21-16; 8:45 am]

BILLING CODE 9110-12-P